DEPARTMENT OF COMMERCE

International Trade Administration

[A-570-803]

Heavy Forged Hand Tools (i.e., Axes & Adzes, Bars & Wedges, Hammers & Sledges, and Picks & Mattocks) From the People's Republic of China: Final Results of the Expedited Sunset Review of the Antidumping Duty Orders

AGENCY: Import Administration, International Trade Administration, Department of Commerce.

SUMMARY: On January 3, 2011, the Department of Commerce (“Department”) initiated a sunset review of the antidumping duty orders on heavy forged hand tools (“Hand Tools”) (i.e., Axes & Adzes, Bars & Wedges, Hammers & Sledges, and Picks & Mattocks) from the People's Republic of China (“PRC”) pursuant to section 751(c) of the Tariff Act of 1930, as amended (“the Act”). Based on the notices of intent to participate and adequate responses filed by the domestic interested parties, and the lack of response from any respondent interested party, the Department conducted an expedited sunset review of the orders pursuant to section 751(c)(3)(B) of the Act and 19 CFR 351.218(e)(1)(ii)(C)(2). As a result of this sunset review, the Department finds that revocation of the orders would likely lead to continuation or recurrence of dumping, at the levels indicated in the “Final Results of Review” section of this notice.

DATES: Effective Date: May 3, 2011.

FOR FURTHER INFORMATION CONTACT: Emeka Chukwudebe, AD/CVD Operations, Import Administration, International Trade Administration, U.S. Department of Commerce, 14th Street and Constitution Avenue, NW., Washington, DC 20230; telephone: (202) 482-0219.

SUPPLEMENTARY INFORMATION:

Background

On January 3, 2011, the Department initiated the third sunset review of the orders on Hand Tools pursuant to section 751(c) of the Act. See Initiation of Five-Year (“Sunset”) Review, 76 FR 89 (January 3, 2011) (“Initiation”); see also Antidumping Duty Orders: Heavy Forged Hand Tools, Finished or Unfinished, With or Without Handles From the People's Republic of China, 56 FR 6622 (February 19, 1991) (“Orders”). On January 12, 2011, the Department received notices of intent to participate from two domestic parties within the deadline specified in 19 CFR 351.218(d)(1)(i): (1) Ames True Temper (“Ames”)¹ and (2) Council Tool Company, Inc. (“Council Tool”). These two parties claimed interested party status under section 771(9)(C) of the Act and 19 CFR 351.102(b), as domestic manufacturers and producers of the domestic like product. On February 2, 2011, Ames and Council Tool both filed timely and adequate substantive responses within 30 days after the date of publication of the Initiation. The Department did not receive a substantive response from any respondent interested party in the sunset review. As a result, pursuant to section 751(c)(3)(B) of the Act and 19 CFR 351.218(e)(1)(ii)(C)(2), the Department conducted an expedited sunset review of the Orders.

¹ Ames is the successor company to Woodings-Verona Tools Works, the petitioner in the original investigation.

Scope of the Orders

The products covered by these orders are Hand Tools comprising the following classes or kinds of merchandise: (1) Hammers and sledges with heads over 1.5 kg (3.33 pounds); (2) bars over 18 inches in length, track tools and wedges; (3) picks and mattocks; and (4) axes, adzes and similar hewing tools. Hand Tools include heads for drilling hammers, sledges, axes, mauls, picks and mattocks, which may or may not be painted, which may or may not be finished, or which may or may not be imported with handles; assorted bar products and track tools including wrecking bars, digging bars, and tampers; and steel wood splitting wedges. Hand Tools are manufactured through a hot forge operation in which steel is sheared to required length, heated to forging temperature, and formed to final shape on forging equipment using dies specific to the desired product shape and size. Depending on the product, finishing operations may include shot blasting, grinding, polishing and painting, and the insertion of handles for handled products. Hand Tools are currently provided for under the following Harmonized Tariff Schedule of the United States (“HTSUS”) subheadings: 8205.20.60, 8205.59.30, 8201.30.00, and 8201.40.60. Specifically excluded from these orders are hammers and sledges with heads 1.5 kg. (3.33 pounds) in weight and under, hoes and rakes, and bars 18 inches in length and under. The tariff classifications are provided for convenience and customs purposes; however, the written description of the scope of the orders is dispositive.

Analysis of Comments Received

All issues raised in this review are addressed in the “Issues and Decision Memorandum” (“Decision Memorandum”) dated concurrently with this notice. The issues discussed in the Decision Memorandum include the likelihood of continuation or recurrence of dumping and the magnitude of the dumping margin likely to prevail if the Orders were revoked. Parties can obtain a public copy of the Decision Memorandum on file in the Central Records Unit, room 7046, of the main Commerce building.

In addition, a complete public version of the Decision Memorandum can be accessed directly on the Web at http://ia.ita.doc.gov/frn. The paper copy and electronic version of the Decision Memorandum are identical in content.

Final Results of Review

The Department determines that revocation of the Orders on Hand Tools would likely lead to continuation or recurrence of dumping at the rates listed below.

PRC-wide (all manufacturers/producers/exporters) | Margin (percent)
Axes/Adzes | 15.02
Picks/Mattocks | 50.81
Bars/Wedges | 31.76
Hammers/Sledges | 45.42

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: April 26, 2011.
Paul Piquado,
Acting Deputy Assistant Secretary for Import Administration.

[FR Doc. 2011-10768 Filed 5-2-11; 8:45 am]

BILLING CODE 3510-DS-P